DEPARTMENT OF THE TREASURY

Submission for OMB Review; Comment Request

February 5, 2001.

The Department of the Treasury has submitted the following public information collection requirements(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before March 26, 2001 to be assured of consideration.

Departmental Offices/International Portfolio Investment Data Reporting System

OMB Number: 1505-0023.

Form Number: Treasury International Capital Form CM.

Type of Review: Extension.

Title: Dollar Deposit and Certificate of Deposit Claims on Banks Abroad.

Description: Form CM is required by law and is designed to collect timely information on international portfolio capital movements, including data on total U.S. dollar deposits held by nonbanking business enterprises in the U.S. with banks located outside the United States, foreigners' purchases and sales of long-term securities in transactions with U.S. persons. This information is necessary for compiling the U.S. balance of payments, for calculating the U.S. international investment position, and for formulating U.S. international investment position, and for U.S. financial and monetary policies.

Respondents: Business or other for profit.

Estimated Number of Respondents: 55.

Estimated Burden Hours Per Respondent: 30 minutes.

Frequency of Response: Monthly.

Estimated Total Reporting Burden: 330 hours.

OMB Number: 1505-0088.

Form Number: Treasury International Capital Form BL-3.

Type of Review: Reinstatement.

Title: Intermediary's Notification of Foreign Borrowing Denominated in Dollars.

Description: Form BL-3 is required by law and is designed to collect timely information on international portfolio capital movements, including notification by banks, other depository institutions, brokers and dealers to United States nonbank borrowers from foreigners that they may have a reporting obligation under the Treasury Internal Capital system. This information is necessary for compiling U.S. balance of payments, for calculating U.S. international investment position, and for formulating U.S. international financial and monetary policies.

Respondents: Business or other for-profit.

Estimated Number of Respondents: 25.

Estimated Burden Hours Per Respondent: 30 minutes.

Frequency of Response: Monthly.

Estimated Total Reporting Burden: 150 hours.

Clearance Officer: Lois K. Holland (202) 622-1563, Departmental Offices, Room 2110, 1425 New York Avenue, NW., Washington, DC 20220.

OMB Reviewer: Alexander T. Hunt (202) 395-7860, Office of Management and Budget, Room 10202, New Executive Office Building, Washington, DC 20503.

Lois K. Holland,
Department Reports, Management Officer.

[FR Doc. 01-4176 Filed 2-20-01; 8:45 am]

BILLING CODE 4810-25-M